SECURITIES AND EXCHANGE COMMISSION

[Release No. 34-44617; File No. SR-NSCC-2001-06]

Self-Regulatory Organizations; National Securities Clearing Corporation; Notice of Filing and Immediate Effectiveness of a Proposed Rule Change Revising Fees

July 30, 2001.

Pursuant to Section 19(b)(1) of the Securities Exchange Act of 1934 (“Act”),¹ notice is hereby given that on April 25, 2001, NSCC filed with the Securities and Exchange Commission (“Commission”) the proposed rule change as described in Items I, II, and III below, which Items have been prepared by NSCC. The Commission is publishing this notice to solicit comments on the proposed rule change from interested persons.

¹ 15 U.S.C. 78s(b)(1).

I. Self-Regulatory Organization's Statement of the Terms of Substance of the Proposed Rule Change

The proposed rule change revises NSCC's fee schedule by reducing certain fees and giving NSCC the benefit of the fee reduction retroactive to January 1, 2001.

II. Self-Regulatory Organization's Statement of the Purpose of, and Statutory Basis for, the Proposed Rule Change

In its filing with the Commission, NSCC included statements concerning the purpose of and basis for the proposed rule change and discussed any comments it received on the proposed rule change. The text of these statements may be examined at the places specified in Item IV below. Set forth in sections A, B, and C below, are the most significant aspects of such statements.

A. Self-Regulatory Organization's Statement of the Purpose, and Statutory Basis for, the Proposed Rule Change

The purpose of the proposed rule filing is to reduce certain fees and to give NSCC's members the benefit of these fee changes retroactive to January 1, 2001. The revised fees will be reflected in each member's billing statements transmitted in May 2001.

The Trade Recording fee for each side of each stock, warrant, or right item entered for settlement but not compared by NSCC is currently $.005 per 100 shares with a minimum fee of $.020 and a maximum fee of $.30. Under this rule change, this fee will be reduced to $.004 per 100 shares with a minimum fee of $.016 and a maximum of $.24.

The Trade Clearance fee for trade clearance (netting) is currently $.025 per side. Under this rule change, the fee will be reduced to $.02 per side.

The CNS Delivery Order Movement fee of $.06 per item will be eliminated. This charge was a pass through charge from The Depository Trust Company (“DTC”). It will be billed directly by DTC effective May 1, 2001.

The Fund/SERV transaction fee is currently $.25 per side per order or transfer request. Under this rule change, the fee will be reduced to $.175 per side per order or transfer request.

NSCC believes that the proposed rule change is consistent with the requirements of the Act and the rules and regulations thereunder since it provides for the equitable allocation of dues, fees, and other charges among NSCC's participants.

B. Self-Regulatory Organization's Statement on Burden on Competition

NSCC does not believe that the proposed rule change will impact or impose a burden on competition.

C. Self-Regulatory Organization's Statement on Comments on the Proposed Rule Change Received From Members, Participants, or Others

No written comments have been solicited or received. NSCC will notify the Commission of any written comments received by NSCC.

III. Date of Effectiveness of the Proposed Rule Change and Timing for Commission Action

The foregoing rule change has become effective pursuant to Section 19(b)(3)(a) of the Act and Rule 19b-4(f)(2) thereunder because the propose rule change reduces fees and other charges. At any time within sixty days of the filing of such rule change, the Commission may summarily abrogate such rule change if it appears to the Commission that such action is necessary or appropriate in the public interest, for the protection of investors, or otherwise in furtherance of the purposes of the Act.

IV. Solicitation of Comments

Interested persons are invited to submit written data, views, and arguments concerning the foregoing including whether the proposed rule change is consistent with the Act. Persons making written submission should file six copies thereof with the Secretary, Securities and Exchange Commission, 450 Fifth Street NW., Washington, DC 20549-0609. Copies of the submission, all subsequent amendments, all written statements with respect to the proposed rule change that are filed with Commission, and all written communications relating to the proposed rule change that are filed with Commission, and all written communications related to the proposed rule change between the Commission and any person, other than those that may be withheld from the public in accordance with provisions of 5 U.S.C. 552, will be available for inspection and copying in the Commission's Public Reference Section, 450 Fifth Street NW., Washington, DC 20549. Copies of such filing will also be available for inspection and copying at NSCC's principal office. All submissions should refer to File No. SR-NSCC-2001-06 and should be submitted by August 27, 2001.

For the Commission by the Division of Market Regulation, pursuant to delegated authority.²
² 17 CFR 200.30-3(a)(12).
Margaret H. McFarland,
Deputy Secretary.

[FR Doc. 01-19527 Filed 8-3-01; 8:45 am]

BILLING CODE 8010-01-M